FEDERAL COMMUNICATIONS COMMISSION

[Report No. 2827]

Petitions for Reconsideration and Clarification of Action in Rulemaking Proceeding

August 14, 2007.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by September 4, 2007. See Section 1.4(b)(1) of the Commission's rules (47 CFR 1.4(b)(1)). Replies to oppositions must be filed within 10 days after the time for filing oppositions have expired.

Subject: In the Matter of Recommendations of the Independent Panel Reviewing the Impact of the Hurricane Katrina on Communications Networks (EB Docket No. 06-119) (WC Docket No. 06-63).

Number of Petitions Filed: 7.

William F. Caton,
Deputy Secretary.

[FR Doc. E7-16301 Filed 8-17-07; 8:45 am]

BILLING CODE 6712-01-P